DEPARTMENT OF COMMERCE

Foreign-Trade Zones Board

[B-69-2016]

Production Activity Not Authorized, Foreign-Trade Zone (FTZ) 27—Boston, Massachusetts, Claremont Flock, a Division of Spectro Coating Corporation, (Textile Flock), Leominster, Massachusetts

On October 13, 2016, Claremont Flock, a Division of Spectro Coating Corporation, submitted a notification of proposed production activity to the Foreign-Trade Zones (FTZ) Board for its facility within Subzone 27N, in Leominster, Massachusetts.

The notification was processed in accordance with the regulations of the FTZ Board (15 CFR part 400), including notice in the Federal Register inviting public comment (81 FR 72038, October 19, 2016). Pursuant to Section 400.37, the FTZ Board has determined that further review is warranted and has not authorized the proposed activity. If the applicant wishes to seek authorization for this activity, it will need to submit an application for production authority, pursuant to Section 400.23.

Dated: February 10, 2017.
Andrew McGilvray,
Executive Secretary.

[FR Doc. 2017-03145 Filed 2-15-17; 8:45 am]

BILLING CODE 3510-DS-P